DEPARTMENT OF THE INTERIOR

National Park Service

[NPS-WASO-NAGPRA-NPS0033740; PPWOCRADN0-PCU00RP14.R50000]

Notice of Inventory Completion: Western Washington University, Department of Anthropology, Bellingham, WA

AGENCY: National Park Service, Interior.

ACTION: Notice.

SUMMARY: The Western Washington University, Department of Anthropology, has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Western Washington University, Department of Anthropology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Western Washington University, Department of Anthropology at the address in this notice by May 23, 2022.

FOR FURTHER INFORMATION CONTACT: Dr. Sarah Campbell, Western Washington University, Department of Anthropology, Arntzen Hall 315, 516 High Street, Bellingham, WA 98225, telephone (360) 650-4793, email campbsk@wwu.edu.

SUPPLEMENTARY INFORMATION: Notice is here given in accordance with the Native American Graves Protection and Repatriation Act (NAGPRA), 25 U.S.C. 3003, of the completion of an inventory of human remains under the control of the Western Washington University, Department of Anthropology, Bellingham, WA. The human remains were removed from archeological site 45-SK-37, east of Dry Slough on Fir Island, Skagit County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Western Washington University, Department of Anthropology professional staff in consultation with representatives of the Swinomish Indian Tribal Community [previously listed as the Swinomish Indians of the Swinomish Reservation of Washington].

History and Description of the Remains

On May 7, 1960, human remains representing, at minimum, three individuals were removed from site 45-SK-37 in Skagit County, WA, by faculty member Herbert C. Taylor. Taylor was supervising a field school excavation for Western Washington State College, now known as Western Washington University. No known individuals were identified. No associated funerary objects are present.

The human remains have been determined to be Native American based on ethnographic, geographic, and archeological evidence. Suttles and Lane's ethnography of the Southern Coast Salish is particularly relevant, as it contains a map featuring some of the larger villages in the region (Suttles and Lane, 1990: Figure 1). Comparison of the location of site 45-SK-37 with Suttles and Lane's map indicates that it is in an area associated with Nookachamps, Kikiallus, and Swinomish. Many descendants of these cultural entities are today associated with the Swinomish Indian Tribal Community [previously listed as the Swinomish Indians of the Swinomish Reservation of Washington].

Determinations Made by Western Washington University, Department of Anthropology

Officials of Western Washington University, Department of Anthropology have determined that:

• Pursuant to 25 U.S.C. 3001(9), the human remains described in this notice represent the physical remains of three individuals of Native American ancestry.

• Pursuant to 25 U.S.C. 3001(2), there is a relationship of shared group identity that can be reasonably traced between the Native American human remains and the Swinomish Indian Tribal Community [previously listed as the Swinomish Indians of the Swinomish Reservation of Washington].

Additional Requestors and Disposition

Lineal descendants or representatives of any Indian Tribe or Native Hawaiian organization not identified in this notice that wish to request transfer of control of these human remains should submit a written request with information in support of the request to Dr. Sarah Campbell, Western Washington University, Department of Anthropology, Arntzen Hall 315, 516 High Street, Bellingham, WA 98225, telephone (360) 650-4793, email campbsk@wwu.edu, by May 23, 2022. After that date, if no additional requestors have come forward, transfer of control of the human remains to the Swinomish Indian Tribal Community [previously listed as the Swinomish Indians of the Swinomish Reservation of Washington] may proceed.

The Western Washington University, Department of Anthropology is responsible for notifying the Swinomish Indian Tribal Community [previously listed as the Swinomish Indians of the Swinomish Reservation of Washington] that this notice has been published.

Dated: April 13, 2022.
Melanie O'Brien,
Manager, National NAGPRA Program.

[FR Doc. 2022-08603 Filed 4-21-22; 8:45 am]

BILLING CODE 4312-52-P